DEPARTMENT OF HEALTH AND HUMAN SERVICES

Public Meeting of the President's Council on Bioethics on December 2-3, 2004

AGENCY: The President's Council on Bioethics, HHS.

ACTION: Notice.

SUMMARY: The President's Council on Bioethics (Leon R. Kass, M.D., chairman) will hold its nineteenth meeting, at which, among other things, it will continue its discussion of ethical issues relating to the treatment of the aged, and end-of-life care. Subjects discussed at past Council meetings (though not on the agenda for the present one) include: cloning, stem cell research, embryo research, assisted reproduction, reproductive genetics, IVF, ICSI, PGD, sex selection, inheritable genetic modification, patentability of human organisms, aging retardation, lifespan-extension, and organ procurement for transplantation. Publications issued by the Council to date include: Human Cloning and Human Dignity: An Ethical Inquiry (July 2002); Beyond Therapy: Biotechnology and the Pursuit of Happiness (October 2003); Being Human: Readings from the President's Council on Bioethics (December 2003); Monitoring Stem Cell Research (January 2004), and Reproduction and Responsibility: The Regulation of New Biotechnologies (March 2004).

DATES: The meeting will take place Thursday, December 2, 2004, from 9 a.m. to 4:30 p.m. ET; and Friday, December 3, 2004, from 8:30 a.m. to 12:30 p.m. ET.

ADDRESSES: The Stephen Decatur House, 1610 H Street, NW., Washington, DC 20002. Phone 202-842-0920.

Agenda: The meeting agenda will be posted at http://www.bioethics.gov.

Public Comments: The Council encourages public input, either in person or in writing. At this meeting, interested members of the public may address the Council, beginning at 11:30 a.m., on Friday, December 3. Comments are limited to no more than five minutes per speaker or organization. As a courtesy, please inform Ms. Diane Gianelli, Director of Communications, in advance of your intention to make a public statement, and give your name and affiliation. To submit a written statement, mail or e-mail it to Ms. Gianelli at one of the addresses given below.

FOR FURTHER INFORMATION CONTACT: Ms. Diane Gianelli, Director of Communications, The President's Council on Bioethics, Suite 700, 1801 Pennsylvania Avenue, Washington, DC 20006. Telephone: 202/296-4669. E-mail: info@bioethics.gov. Web site: http://www.bioethics.gov.

Dated: November 3, 2004.
Yuval Levin,
Acting Executive Director, The President's Council on Bioethics.

[FR Doc. 04-24945 Filed 11-8-04; 8:45 am]

BILLING CODE 4150-03-P